DEPARTMENT OF THE INTERIOR

Fish and Wildlife Service

[FWS-R2-ES-2013-N222; FXES11130200000F5-145-FF02ENEH00]

Emergency Exemption; Issuance of Emergency Permit To Survey for and Relocate Jemez Mountain Salamanders Within the Santa Fe National Forest, New Mexico

AGENCY: Fish and Wildlife Service, Interior.

ACTION: Notice of issuance of endangered species emergency permits.

SUMMARY: The final rule to list the Jemez Mountain salamander (Plethodon neomexicanus) as endangered throughout its range in New Mexico published in the Federal Register on September 10, 2013. The final rule becomes effective on October 10, 2013. Without having personnel authorized to survey for and minimize impacts through moving individuals out of harm's way, the New Mexico Gas Company's ongoing pipeline repairs may be delayed to prevent individual Jemez Mountain salamanders being needlessly harmed or killed. We, the U.S. Fish and Wildlife Service have, under an Endangered Species Act (ESA) permit, authorized qualified researchers to survey for and move Jemez Mountain salamanders out of harm's way during pipeline repairs. These pipeline repairs are considered essential to human and environmental health.

ADDRESSES: Documents and other information concerning the permit are available for review, subject to the requirements of the Privacy Act and Freedom of Information Act. Documents will be available for public inspection, by appointment only, during normal business hours at the U.S. Fish and Wildlife Service, 500 Gold Ave. SW., Room 6034, Albuquerque, NM 87103.

FOR FURTHER INFORMATION CONTACT: Susan Jacobsen, Chief, Endangered Species Division, P.O. Box 1306, Albuquerque, NM 87103; (505) 248-6920.

SUPPLEMENTARY INFORMATION: The New Mexico Gas Company has identified eight dented and corroded segments of natural gas pipeline within the occupied range of the Jemez Mountain salamander that are in critical condition and require immediate repair. This approximately 17.5-mile-long portion of pipeline lies between the village of Cuba, New Mexico, and the western boundary of the Valles Cauldera National Preserve within the Santa Fe National Forest. Emergency repairs are necessary to ensure that natural gas pressure may be restored to levels necessary to supply northern New Mexico with adequate fuel for home heating before any cold weather in early November. These emergency repairs to the pipeline have been analyzed and authorized under an emergency consultation between the Cuba Ranger District, Santa Fe National Forest and the Service's New Mexico Ecological Services Field Office (Consultation # 02ENNM00-2013-FE-0110). We, the U.S. Fish and Wildlife Service (Service) have, under an Endangered Species Act (16 U.S.C. 1531 et seq.) permit, authorized the following researchers to survey for and move Jemez Mountain salamanders out of harm's way during pipeline repairs:

Permit TE-819477

Applicant: Parametrix, Inc., Albuquerque, New Mexico.

We approved the applicant's request for an amendment to a current permit for research and recovery purposes to survey for, locate, capture, temporarily hold, sample for disease, measure, relocate, salvage any dead, moribund, or parts (e.g., severed tails) and release of any Jemez Mountains salamander (Plethodon neomexicanus) that is directly in harm's way or has been harmed resulting from emergency repairs by New Mexico Gas Company to a natural gas pipeline located in the Jemez Mountains, in Los Alamos, Rio Arriba, and Sandoval Counties, New Mexico.

Permit TE-045236

Applicant: SWCA, Inc., Albuquerque, New Mexico.

We approved the applicant's request for an amendment to a current permit for research and recovery purposes to survey for, locate, capture, temporarily hold, sample for disease, measure, relocate, salvage any dead, moribund, or parts (e.g., severed tails) and release of any Jemez Mountains salamander (Plethodon neomexicanus) that is directly in harm's way or has been harmed resulting from emergency repairs by New Mexico Gas Company to a natural gas pipeline located in the Jemez Mountains, in Los Alamos, Rio Arriba, and Sandoval Counties, New Mexico.

Permit TE-071287

Applicant: Bruce Christman, Albuquerque, New Mexico.

We approved the applicant's request for an amendment and renewal of an expired permit for research and recovery purposes to survey for, locate, capture, temporarily hold, sample for disease, measure, relocate, salvage any dead, moribund, or parts (e.g., severed tails) and release of any Jemez Mountains salamander (Plethodon neomexicanus) that is directly in harm's way or has been harmed resulting from emergency repairs by New Mexico Gas Company to a natural gas pipeline located in the Jemez Mountains, in Los Alamos, Rio Arriba, and Sandoval Counties, New Mexico.

These emergency permits are issued for the sole purpose of facilitating the New Mexico Gas Company pipeline repairs. Any further authorization for surveys or research of the Jemez Mountains salamander will be processed separately.

Authority: 16 U.S.C. 1531 et seq.

Dated: October 21, 2013.
Joy E. Nicholopoulos,
Acting Regional Director, Southwest Region, U.S. Fish and Wildlife Service.

[FR Doc. 2013-25140 Filed 10-25-13; 8:45 am]

BILLING CODE 4310-55-P